DEPARTMENT OF STATE

[Public Notice 5800]

Determination and Certification Under Section 40A of the Arms Export Control Act

Pursuant to section 40A of the Arms Export Control Act (22 U.S.C. 2781), and Executive Order 11958, as amended, I hereby determine and certify to the Congress that the following countries are not cooperating fully with United States antiterrorism efforts: Cuba, Iran, North Korea, Syria, Venezuela.

This determination and certification shall be transmitted to the Congress and published in the Federal Register.

Dated: May 14, 2007.
John D. Negroponte,
Deputy Secretary of State, Department of State.

[FR Doc. E7-9727 Filed 5-18-07; 8:45 am]

BILLING CODE 4710-10-P